MEDICARE PAYMENT ADVISORY COMMISSION

Commission Meeting

AGENCY: Medicare Payment Advisory Commission.

ACTION: Notice of meeting.

SUMMARY: The Commission will hold its next public meeting on Thursday, November 15, 2001, and Friday, November 16, 2001, at the Ronald Reagan Building, International Trade Center, 1300 Pennsylvania Avenue, NW., Washington, DC. The meeting is tentatively scheduled to begin at 10 a.m. on November 15, and at 9 a.m. on November 16.

Topics for discussion include: Quality improvement for health plans and providers; Medicare program complexity and regulatory burden; payment for outpatient pain management procedures; blood safety requirements: impact on hospital costs and payment options; measuring payment adequacy and; updating payments in traditional Medicare; the Medigap insurance market; Medicare's hospice benefit; and Medicare+Choice.

Agendas will be mailed on November 6, 2001. The final agenda will be available on the Commission's Web site (www.MedPAC.gov).

ADDRESSES: MedPAC's address is: 1730 K Street, NW., Suite 800, Washington, DC 20006. The telephone number is (202) 653-7220.

FOR FURTHER INFORMATION CONTACT: Diane Ellison, Office Manager, (202) 653-7220.

Murray N. Ross,
Executive Director.

[FR Doc. 01-27553 Filed 11-1-01; 8:45 am]

BILLING CODE 6820-BW-M